DEPARTMENT OF ENERGY

Federal Energy Regulatory Commission

Combined Notice of Filings #1

Take notice that the Commission received the following electric corporate filings:

Docket Numbers: EC14-3-000.

Applicants: Hardee Power Partners Limited

Description: Application for Authorization under Section 203 of the Federal Power Act and Request for Waivers and Expedited Action of Hardee Power Partners Limited.

Filed Date: 10/11/13

Accession Number: 20131011-5029

Comments Due: 5 p.m. ET 11/1/13

Take notice that the Commission received the following exempt wholesale generator filings:

Docket Numbers: EG14-4-000.

Applicants: PE Hydro Generation, LLC

Description: Self-Certification of EG of PE Hydro Generation, LLC.

Filed Date: 10/10/13

Accession Number: 20131010-5028

Comments Due: 5 p.m. ET 10/31/13

Docket Numbers: EG14-5-000.

Applicants: Seneca Generation, LLC

Description: Self-Certification of EG of Seneca Generation, LLC.

Filed Date: 10/10/13

Accession Number: 20131010-5029

Comments Due: 5 p.m. ET 10/31/13

Docket Numbers: EG14-6-000.

Applicants: Lake Lynn Generation, LLC

Description: Self-Certification of EG of Lake Lynn Generation, LLC.

Filed Date: 10/10/13

Accession Number: 20131010-5030

Comments Due: 5 p.m. ET 10/31/13

Docket Numbers: EG14-7-000.

Applicants: All Dams Generation, LLC

Description: Self-Certification of EG of All Dams Generation, LLC.

Filed Date: 10/10/13

Accession Number: 20131010-5031

Comments Due: 5 p.m. ET 10/31/13

Take notice that the Commission received the following electric rate filings:

Docket Numbers: ER12-2292-004.

Applicants: Southwest Power Pool, Inc.

Description: Compliance Filing and Request for Limited Waiver to be effective 3/19/2013.

Filed Date: 10/10/13

Accession Number: 20131010-5038

Comments Due: 5 p.m. ET 10/31/13

Docket Numbers: ER13-1100-001.

Applicants: Energy Technology Savings LLC

Description: Notice of Non-Material Change in Status of Energy Technology Savings LLC.

Filed Date: 10/10/13

Accession Number: 20131010-5139

Comments Due: 5 p.m. ET 10/31/13

Docket Numbers: ER13-1885-001.

Applicants: Malacha Hydro Limited Partnership

Description: Malacha Hydro Limited Partnership submits 2012 Price Amendment to PPA to be effective 10/10/2013.

Filed Date: 10/11/13

Accession Number: 20131011-5002

Comments Due: 5 p.m. ET 11/1/13

Docket Numbers: ER14-69-000.

Applicants: PJM Interconnection, L.L.C.

Description: PJM Interconnection, L.L.C. submits Revision to OATT Att Q to correct up-to congestion credit exposure calculation to be effective 9/1/2013.

Filed Date: 10/10/13

Accession Number: 20131010-5086

Comments Due: 5 p.m. ET 10/31/13

Docket Numbers: ER14-69-000.

Applicants: PJM Interconnection, L.L.C.

Description: PJM Interconnection, L.L.C. submits Revision to OATT Att Q to correct up-to congestion credit exposure calculation to be effective 9/1/2013.

Filed Date: 10/10/13

Accession Number: 20131010-5086

Comments Due: 5 p.m. ET 10/31/13

Docket Numbers: ER14-70-000.

Applicants: Tampa Electric Company

Description: Tampa Electric Company submits First Revised Rate Schedule No 83 Trilateral Agreement w SEC and HPP to be effective 12/31/9998.

Filed Date: 10/11/13

Accession Number: 20131011-5020

Comments Due: 5 p.m. ET 11/1/13

Docket Numbers: ER14-71-000.

Applicants: Southern California Edison Company

Description: Southern California Edison Company submits Amended Distribution Service Agmt—QF Resources to be effective 12/11/2013.

Filed Date: 10/11/13

Accession Number: 20131011-5022

Comments Due: 5 p.m. ET 11/1/13

Docket Numbers: ER14-73-000.

Applicants: Entergy Services, Inc.

Description: Application Proposing Amendments to the Entergy System Agreement of Entergy Services, Inc.

Filed Date: 10/11/13

Accession Number: 20131011-5092

Comments Due: 5 p.m. ET 11/1/13

Take notice that the Commission received the following electric securities filings:

Docket Numbers: ES14-1-000.

Applicants: Mississippi Power Company

Description: Application of Mississippi Power Company for authorization to issue securities under section 204 of the Federal Power Act and request for exemption from competitive bidding requirements.

Filed Date: 10/10/13

Accession Number: 20131010-5140

Comments Due: 5 p.m. ET 10/31/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2013.
Nathaniel J. Davis, Sr.,
Deputy Secretary.

[FR Doc. 2013-24562 Filed 10-21-13; 8:45 am]

BILLING CODE 6717-01-P